DEPARTMENT OF TRANSPORTATION

Federal Highway Administration

Notice of Final Federal Agency Actions on the Central Business District Tolling Program, New York, New York

AGENCY: Federal Highway Administration (FHWA), DOT.

ACTION: Notice of limitation on claims for judicial review of actions by FHWA and other Federal agencies.

SUMMARY: This notice announces action taken by FHWA and other Federal agencies that are final. The actions relate to the Central Business District Tolling Program in New York, New York.

DATES: By this notice, FHWA is advising the public of final agency actions subject to 23 U.S.C. 139(l)(1). A claim seeking judicial review of the Federal agency actions on the highway project will be barred unless the claim is filed on or before November 27, 2023. If the Federal law that authorizes judicial review of a claim provides a time period of less than 150 days for filing such claim, then that shorter time period still applies.

FOR FURTHER INFORMATION CONTACT: Richard J. Marquis, Division Administrator, Federal Highway Administration, Leo W. O'Brien Federal Building, 11A Clinton Avenue, Suite 719, Albany, New York 12207, Telephone (518) 431-4127.

SUPPLEMENTARY INFORMATION: Notice is hereby given that FHWA and other Federal agencies have taken final agency actions by issuing approvals for the following highway project in the State of New York: Central Business District Tolling Program, New York, New York. The Project purpose is to reduce traffic congestion in the Manhattan Central Business District in a manner that will generate revenue for future transportation improvements, pursuant to acceptance into FHWA's Value Pilot Pricing Program.

The objectives of the Project are to:

• Reduce daily vehicle-miles traveled (VMT) within the Manhattan Central Business District by at least 5 percent.

• Reduce the number of vehicles entering the Manhattan CBD daily by at least 10 percent.

• Create a funding source for capital improvements and generate sufficient annual net revenues to fund $15 billion for capital projects for the MTA Capital Program.

• Establish a tolling program consistent with the purposes underlying the New York State legislation entitled the MTA Reform and Traffic Mobility Act.

The actions by the Federal agencies, and the laws under which such actions were taken, are described in the FHWA Final Environmental Assessment (EA) for the project, signed May 5, 2023, in the Finding of No Significant Impact (FONSI) for the project, issued on June 23, 2023, and in other documents in the FHWA administrative record. The Final EA, FONSI, and other documents in the FHWA administrative record files are available by contacting FHWA at the address provided above. The Final EA and FONSI can also be viewed and downloaded from the project website: https://new.mta.info/project/CBDTP.

This notice applies to FHWA agency decisions as of the issuance date of this notice and all laws under which such actions were taken, including but not limited to:

1. National Environmental Policy Act [42 U.S.C. 4321-4351].

2. Federal-Aid Highway Act [23 U.S.C. 109].

3. Clean Air Act [42 U.S.C. 7401-7671(q)].

4. Section 4(f) of the Department of Transportation Act of 1966 [49 U.S.C. 303].

5. Endangered Species Act [16 U.S.C. 1531-1544 and 1536].

6. Fish and Wildlife Coordination Act [16 U.S.C. 661-667(d)].

7. Migratory Bird Treaty Act [16 U.S.C. 703-712].

8. Bald and Golden Eagle Protection Act [16 U.S.C. 668-668c].

9. Section 106 of the National Historic Preservation Act of 1966, as amended [16 U.S.C. 470].

10. Farmland Protection Policy Act [7 U.S.C. 4201-4209].

11. Clean Water Act (Section 319, Section 401, Section 402, Section 404) [33 U.S.C. 1251-1377].

12. Safe Drinking Water Act [42 U.S.C. 300(f) et seq.].

13. Uniform Relocation Assistance and Real Property Acquisition Policies Act of 1970 [42 U.S.C. 4601 et seq.].

14. Noise Control Act of 1972 [42 U.S.C. 4901 et seq.].

15. Resource Conservation and Recovery Act [42 U.S.C. 6901-6992(k)].

16. Comprehensive Environmental Response, Compensation, and Liability Act [42 U.S.C. 9601-9675].

17. Americans with Disabilities Act of 1990 [42 U.S.C. 12101].

18. Executive Order 11990 Protection of Wetlands.

19. Executive Order 11988 Floodplain Management.

20. Executive Order 12898 Federal Actions to Address Environmental Justice in Minority Populations and Low-Income Populations.

21. Executive Order 11593 Protection and Enhancement of Cultural Resources.

22. Executive Order 13007 Indian Sacred Sites.

23. Executive Order 13287 Preserve America.

24. Executive Order 13175 Consultation and Coordination with Indian Tribal Governments.

25. Executive Order 11514 Protection and Enhancement of Environmental Quality.

26. Executive Order 13112 Invasive Species.

27. Executive Order 13166 Improving Access to Services for Persons with Limited English Proficiency.

(Catalog of Federal Domestic Assistance Program Number 20.205, Highway Planning and Construction. The regulations implementing Executive Order 12372 regarding intergovernmental consultation on Federal programs and activities apply to this program.)

Authority: 23 U.S.C. 139(l)(1).

Issued on: June 23, 2023.
Richard J. Marquis,
Division Administrator, Albany, NY.

[FR Doc. 2023-13709 Filed 6-27-23; 8:45 am]

BILLING CODE 4910-RY-P